DEPARTMENT OF DEFENSE

48 CFR Appendix F to Chapter 2

[DFARS Case 2000-D008]

Defense Federal Acquisition Regulation Supplement; Material Inspection and Receiving Report

AGENCY: Department of Defense (DoD).

ACTION: Final rule.

SUMMARY: The Director of Defense Procurement has issued a final rule amending the Defense Federal Acquisition Regulation Supplement (DFARS) to update instructions for completion of the Material Inspection and Receiving Report. The rule adds requirements for inclusion of the title, mailing address, and telephone number of the Government official responsible for acceptance of supplies or services under a contract.

EFFECTIVE DATE: October 25, 2000.

FOR FURTHER INFORMATION CONTACT: Mr. Rick Layser, Defense Acquisition Regulations Council, OUSD(AT&L)DP(DAR), IMD 3C132, 3062 Defense Pentagon, Washington, DC 20301-3062. Telephone (703) 602-0293; telefax (703) 602-0350. Please cite DFARS Case 2000-D008.

SUPPLEMENTARY INFORMATION:

A. Background

Section 32.905(f)(6) of the Federal Acquisition Regulation (FAR) requires that receiving reports supporting invoice payments include the signature, printed name, title, mailing address, and telephone number of the Government official responsible for acceptance or approval functions. DD Form 250, Material Inspection and Receiving Report, has been revised to provide for inclusion of all information required by FAR 32.905(f)(6). This final rule amends the corresponding DD Form 250 preparation instructions in DFARS Appendix F. The rule also makes editorial changes to Appendix F to update and clarify the text.

DD Form 250 and other forms prescribed by the DFARS are not included in the Code of Federal Regulations. The forms are available via the Internet at http://www.acq.osd.mil/dp/dars/dfars/toc253_3.htm.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2000-D008.

C. Paperwork Reduction Act

The Paperwork Reduction Act does not apply because the rule does not impose any new information collection requirements that require the approval of the Office of Management and Budget under 44 U.S.C. 3501, et seq.

List of Subjects in 48 CFR Chapter 2

Government procurement.

Michele P. Peterson,
Executive Editor, Defense Acquisition Regulations Council.

Therefore, 48 CFR Appendix F to Chapter 2 is amended as follows:

1. The authority citation for 48 CFR Appendix F to subchapter 1 continues to read as follows:

Authority: 41 U.S.C. 421 and 48 CFR Chapter 1.

Appendix F—Material Inspection and Receiving Report

F-104 [Amended]

2. Appendix F to Chapter 2 is amended in Part 1, Section F-104, in the undesignated paragraph following paragraph (a)(5)(i)(k) by removing “Block 21B” and adding in its place “Block 21b”.

3. Appendix F to Chapter 2 is amended in Part 3, Section F-301, as follows:

a. By revising paragraphs (a) and (b)(1) and paragraph (b)(2)(i) introductory text;

b. In paragraph (b)(2)(i)(B)(1) introductory text in the second sentence by removing “three position” and adding in its place “three-position”;

c. In paragraph (b)(2)(iii) introductory text in the last sentence by removing the colon and adding in its place an em dash;

d. In paragraph (b)(3) in the last sentence by adding, after the word “date”, the parenthetical “(see F-303”;

e. In paragraph (b)(21)(i) in the first sentence by removing “Blocks A and B” and adding in its place “Blocks 21a and 21b”, and in the last sentence by removing “cross reference” and adding in its place “cross-reference”;

f. In paragraph (b)(21)(iii) in the first sentence by removing “Block 21A” and adding in its place “Block 21a”;

g. In paragraph (b)(21)(iv)(A) introductory text by removing “shall” and adding in its place “must”;

h. By revising paragraphs (b)(21)(iv)(A)(3) and (b)(21)(v)(A);

i. In paragraph (b)(21)(v)(B) introductory text by removing “shall” and adding in its place “must”; and

j. By revising paragraphs (b)(21)(v)(B)(3) and (b)(21)(v)(C), the last sentence of paragraph (b)(21)(v)(D), and paragraphs (b)(21)(v)(E) and (b)(22). The revised text reads as follows:

Appendix F—Material Inspection and Receiving Report

* * * * *

Part 3—Preparation of the DD Form 250 and DD Form 250C

F-301 Preparation Instructions

(a) General.

(1) Dates must use nine spaces consisting of the four digits of the year, three-position alphabetic month abbreviation, and two digits for the day. For example, 2000AUG07, 2000SEP24.

(2) Addresses must consist of the name, street address/P.O. box, city, state, and ZIP code.

(3) Enter to the right of and on the same line as the word “Code” in Blocks 9 through 12 and in Block 14—

(i) The Commercial and Government Entity Handbook (H4/H8) code;

(ii) The DoD activity address code (DoDAAC) as it appears in the DoD Activity Address Directory (DoDAAD), DoD 4000.25-6-M; or

(iii) The Military Assistance Program Address Directory (MAPAD) code.

(4) Enter the DoDAAC, CAGE (H4/H8), or MAPAD code in Block 13.

(5) The data entered in the blocks at the top of the DD Form 250c must be identical to the comparable entries in Blocks 1, 2, 3, and 6 of the DD Form 250.

(6) Enter overflow data from the DD Form 250 in Block 16 or in the body of the DD Form 250c with an appropriate cross-reference. Do not number or distribute additional DD Form 250c sheets, solely for continuation of Block 23 data as part of the MIRR.

(7) Do not include classified information in the MIRR. MIRRs must not be classified.

(b) Completion instructions.

(1) Block 1—Procurement Instrument Identification (Contract) No.

(i) Enter the 13-position alpha-numeric basic Procurement Instrument Identification Number (PIIN) of the contract. When applicable, enter the four-position alpha-numeric call/order serial number that is supplementary to the 13-position basic PIIN. This number is also referred to as the Supplementary Procurement Instrument Identification Number (SPIIN). Use SPIINs for (also see Subpart 204.70)—

(A) Delivery orders under indefinite-delivery type contracts;

(B) Orders under basic ordering agreements; and

(C) Calls under blanket purchase agreements.

(ii) Except as indicated in paragraph (b)(1)(iii) of this section, do not enter supplementary numbers used in conjunction with basic PIINs to identify—

(A) Modifications of contracts and agreements;

(B) Modifications to calls or orders; or

(C) Document numbers representing contracts written between contractors.

(iii) When shipping instructions are furnished and shipment is made before receipt of the confirming contract modification (SP 30, Amendment of Solicitation/Modification of Contract), enter the contract modification six-digit number or the two-digit call or order number immediately following the PIIN or call/order four-digit SPIIN.

(iv) For DoD delivery orders on non-DoD contracts, enter the non-DoD contract number immediately below the PII number.

1. PROCUREMENT INSTRUMENT IDENTIFICATION (CONTRACT) NO. SP0400-00-F-1684 GS-000S-61917 | ORDER NO.

(v) When a contract number other than PII number is used, enter that contract number.

(2) * * *

(i) The shipment number has a three-position alpha character prefix and a four-position numeric or alpha-numeric serial number.

* * * * *

(21) * * *

(iv) * * *

(A) * * *

(3) Enter the typed, stamped, or printed name, title, mailing address, and commercial telephone number.

* * * * *

(v) * * *

(A) When acceptance at origin is indicated in Block 21a, make no entries in Block 21b.

(B) * * *

(3) Enter typed, stamped, or printed name, title, mailing address, and commercial telephone number.

(C) When “ALTERNATIVE RELEASE PROCEDURE” is entered in Block 21a and acceptance is at destination, the authorized Government representative must complete the entries required by paragraph (b)(21)(v)(B) of this section.

(D) * * * Forward one executed copy of the final DD Form 250 to the contract administration office cited in Block 10 for implementing contract closeout procedures.

(E) When “FAST PAY” is entered in Block 21a, make no entries in this block.

(22) Block 22—Receiver's Use. The authorized representative of the receiving activity (Government or contractor) must use this block to show receipt, quantity, and condition. The authorized representative must—

(i) Enter the date the supplies arrived. For example, when off-loading or in-checking occurs subsequent to the day of arrival of the carrier at the installation, the date of the carrier's arrival is the date received for purposes of this block;

(ii) Sign; and

(iii) Enter typed, stamped, or printed name, title, mailing address, and commercial telephone number.

* * * * *

F-308 [Amended]

4. Appendix F to Chapter 2 is amended in Part 3, Section F-308, in the last sentence, by removing “Block 21B” and adding in its place “F-301(b)(21)(v)”.

F-401 [Amended]

5. Appendix F to Chapter 2 is amended in Part 4, Section F-401, in paragraph (d)(1), by removing “(Block 21A)” and adding in its place “(Block 21a)”.

[FR Doc. 00-27246 Filed 10-24-00; 8:45 am]

BILLING CODE 5000-04-M